DEPARTMENT OF THE TREASURY

Submission for OMB Review; Comment Request

June 18, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 26, 2004 to be assured of consideration.

Alcohol and Tobacco Tax and Trade Bureau (TTB)

OMB Number: 1513-0007.

Form Number: TTB F 5130.9 and TTB F 5130.26.

Type of Review: Extension.

Title: Brewer's Report of Operations and Brewpub Report of Operations.

Description: Brewers periodically file these reports of their operations to account for activity relating to account for activity relating to taxable commodities. TTB uses this information primarily for revenue protection, for audit purposes, and to determine whether activity is in compliance with the requirements of law. We also use this information to publish periodical statistical releases of use and interest to the industry.

Respondents: Business of other for-profit.

Estimated Number of Respondents: 1,750.

Estimated Burden Hours per Respondent:

TTB F 5130.9 | 1 hour.
TTB F 5130.26 | 1 hour

Frequency of Response: Monthly, Quarterly.

Estimated Total Reporting Burden: 7,800 hours.

OMB Number: 1513-0015.

Form Number: TTB Fs 5130.22, 5130.23, 5130.25 and 5130.27.

Type of Review: Extension.

Title: Brewer's Bonds and Continuation Certificates.

Description: The Internal Revenue Code requires brewers to give a bond to protect the revenue and to ensure compliance with the requirements of law and regulations. Bonds and continuation certificate are required by law and are necessary to protect government interests in the excise tax revenues that brewers pay.

Respondents: Business of other for-profit.

Estimated Number of Respondents: 1,750.

Estimated Burden Hours per Respondent:

TTB F 5130.22 | 1 hour.
TTB F 5130.23 | 45 minutes.

TTD F 5130.25 | 45 minutes.
TTB F 5130.27 | 45 minutes

Frequency of Response: On occasion.

Estimated Total Reporting Burden: 600 hours.

OMB Number: 1513-0095.

Form Number: TTB F 5300.28.

Recordkeeping Requirement ID Number: TTB REC 5300/28.

Type of Review: Extension.

Title: Application for Registration for Tax-Free Transactions under 26 U.S.C. 4221.

Description: Businesses, State and local governments, and small businesses apply for registration to sell or purchase firearms or ammunition tax-free on this form. TTB uses the form to determine an applicant's qualification.

Respondents: Business of other for-profit.

Estimated Number of Respondents/Recordkeepers: 125.

Estimated Burden Hours per Respondent/Recordkeeper: 3 hours.

Frequency of Response: Other (one-time).

Estimated Total Reporting/Recordkeeping Burden: 375 hours.

Clearance Officer: William H. Foster, (202) 927-8210, Alcohol and Tobacco Tax and Trade Bureau, Room 200 East, 1310 G. Street, NW., Washington, DC 20005.

OMB Reviewer: Joseph F. Lackey, Jr., (202) 395-7316, Office of Management and Budget, Room 10235, New Executive Office Building, Washington, DC 20503.

Lois K. Holland,
Treasury PRA Clearance Officer.

[FR Doc. 04-14498 Filed 6-24-04; 8:45 am]

BILLING CODE 4810-31-P